DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, no later than October 10, 2017.

Interested persons are invited to submit written comments regarding the subject matter of the investigations to the Director, Office of Trade Adjustment Assistance, at the address shown below, not later than October 10, 2017.

The petitions filed in this case are available for inspection at the Office of the Director, Office of Trade Adjustment Assistance, Employment and Training Administration, U.S. Department of Labor, Room N-5428, 200 Constitution Avenue NW., Washington, DC 20210.

Signed at Washington, DC this 22nd day of August 2017.
Hope D. Kinglock,
Certifying Officer, Office of Trade Adjustment Assistance.

Appendix

159 TAA Petitions Instituted Between 6/5/17 and 8/18/17
TA-W | Subject firm (petitioners) | Location | Date of institution | Date of petition
92929 | Intel Corporation (Workers) | Rio Rancho, NM | 06/05/17 | 06/02/17
92930 | Robertshaw (Company) | Chattanooga, TN | 06/05/17 | 06/02/17
92931 | United Parcel Service (State/One-Stop) | West Columbia, SC | 06/05/17 | 06/05/17
92932 | Perrigo (State/One-Stop) | Allegan, MI | 06/06/17 | 06/05/17
92933 | Wolfe Tory Medical Inc. (State/One-Stop) | Salt Lake City, UT | 06/06/17 | 06/05/17
92934 | Data Listing Services dba The Connection (State/One-Stop) | Olean, NY | 06/06/17 | 06/05/17
92935 | Jefferson Yarns, Inc. (Workers) | Pulaski, VA | 06/08/17 | 05/19/17
92936 | Stratus Technologies (Company) | Phoenix, AZ | 06/09/17 | 06/08/17
92937 | Caterpillar Inc. (Workers) | Newberry, SC | 06/09/17 | 06/08/17
92938 | Adient US, LLC (Company) | Lexington, TN | 06/09/17 | 06/08/17
92938A | Adient US, LLC (Company) | Lexington, TN | 06/09/17 | 06/08/17
92939 | SKF USA, Inc. (State/One-Stop) | San Diego, CA | 06/12/17 | 06/09/17
92940 | The Nielsen Company (State/One-Stop) | Fond Du Lac, WI | 06/12/17 | 06/09/17
92941 | The Prudential Insurance Company of America (State/One-Stop) | Roseland, NJ | 06/12/17 | 06/09/17
92942 | SECO Manufacturing (State/One-Stop) | Mound City, IL | 06/13/17 | 06/12/17
92943 | Madico, Incorporated (Company) | Woburn, MA | 06/13/17 | 06/09/17
92944 | Alliance Interiors LLC (State/One-Stop) | Lansing, MI | 06/13/17 | 06/12/17
92945 | APL Logistics (State/One-Stop) | Hodgkins, IL | 06/13/17 | 06/12/17
92946 | Carlisle Etcetera LLC (State/One-Stop) | New York, NY | 06/13/17 | 06/12/17
92947 | Vista Inkjets, Inc. (Company) | Tucson, AZ | 06/14/17 | 04/03/17
92948 | CompuCom (State/One-Stop) | Plano, TX | 06/14/17 | 06/13/17
92949 | FreightCar America (State/One-Stop) | Roanoke, VA | 06/14/17 | 06/13/17
92950 | Health Care Service Corporation (State/One-Stop) | Richardson, TX | 06/15/17 | 06/14/17
92951 | Mersen USA Newburyport-MA LLC (State/One-Stop) | El Paso, TX | 06/15/17 | 06/14/17
92952 | Eagle Family Foods Group LLC (State/One-Stop) | Seneca, MO | 06/15/17 | 06/14/17
92953 | Kelly Services Inc. (State/One-Stop) | Troy, MI | 06/16/17 | 06/15/17
92954 | Resolute Forest Products (Workers) | Jonesville, Lancaster, Catauba, SC | 06/16/17 | 06/14/17
92955 | Recaro North America (Workers) | Auburn Hills, MI | 06/16/17 | 06/13/17
92956 | Capgemini (State/One-Stop) | Phoenix, AZ | 06/19/17 | 06/16/17
92957 | Zippo Manufacturing Company (State/One-Stop) | Bradford, PA | 06/19/17 | 06/19/17
92958 | Alamac Investors LLC dba Alamac American Knits (Company) | Lumberton, NC | 06/20/17 | 06/19/17
92959 | ASG Technologies (State/One-Stop) | Phoenix, AZ | 06/20/17 | 06/19/17
92960 | General Motors (GM) (State/One-Stop) | Kansas City, KS | 06/20/17 | 06/19/17
92961 | North American Communications (Workers) | Duncansville, PA | 06/21/17 | 06/20/17
92962 | Fisher & Ludlow Inc. (State/One-Stop) | Litchfield, IL | 06/21/17 | 06/20/17
92963 | International Automotive Components (IAC) (State/One-Stop) | Springfield, TN | 06/21/17 | 06/21/17
92964 | Greystone Manufacturing, LLC (State/One-Stop) | Sand Springs, OK | 06/22/17 | 06/21/17
92965 | General Electric Power Conversion US Inc. (State/One-Stop) | Pittsburgh, PA | 06/22/17 | 06/21/17
92966 | Cadmus Journal Services, Inc. (Workers) | Lancaster, PA | 06/22/17 | 06/21/17
92967 | NICE Systems (State/One-Stop) | Richardson, TX | 06/22/17 | 06/22/17
92968 | Fiserv, Inc. (State/One-Stop) | Lincoln, NE | 06/22/17 | 06/22/17
92969 | Louis Garneau USA, Inc. (State/One-Stop) | Derby, VT | 06/23/17 | 06/22/17
92970 | Excel Industries, Inc. (State/One-Stop) | Hesston, KS | 06/23/17 | 06/22/17
92971 | The Carlstar Group (Workers) | Ontario, CA | 06/23/17 | 06/22/17
92972 | Hewlett Packard Enterprise Services (State/One-Stop) | Pontiac, MI | 06/26/17 | 06/23/17
92973 | The Boeing Company, Inc. (Company) | Ladson, SC | 06/26/17 | 06/23/17
92974 | Checkfreepay Corporation (State/One-Stop) | Wallingford, CT | 06/27/17 | 06/26/17
92975 | T&W Forge, LLC. (Company) | Alliance, OH | 06/27/17 | 06/26/17
92976 | Vishay Transistor (State/One-Stop) | Bennington, VT | 06/27/17 | 06/26/17
92977 | Whittaker Control System dba Meggitt Aerospace (State/One-Stop) | Corona, CA | 06/28/17 | 06/27/17
92978 | Global Display Solutions, Inc. (Company) | Rockford, IL | 06/29/17 | 06/05/17
92979 | Integrated Energy Technologies Inc. (Union) | Chula Vista, CA | 06/29/17 | 06/28/17
92980 | Technicolor, Inc. (State/One-Stop) | Ontario, CA | 06/29/17 | 06/28/17
92981 | TomTom North America, Inc. (Company) | Lebanon, NH | 06/29/17 | 06/28/17
92982 | Williams Controls (Company) | Portland, OR | 06/30/17 | 06/29/17
92983 | Autodesk (State/One-Stop) | Lake Oswego, OR | 07/03/17 | 06/30/17
92984 | Bear Island Paper/White Birch LLC (State/One-Stop) | Ashland, VA | 07/03/17 | 06/30/17
92985 | BJC Heathcare System (Workers) | St. Louis, MO | 07/03/17 | 06/30/17
92986 | Conduent Business Services/Xerox (State/One-Stop) | Coos Bay, OR | 07/03/17 | 06/30/17
92987 | Frye Electronics (State/One-Stop) | Portland, OR | 07/03/17 | 06/30/17
92988 | Coax LLC (State/One-Stop) | Tigard, OR | 07/03/17 | 06/30/17
92989 | HSBC Technology and Services, USA (HTSU) (State/One-Stop) | Depew, NY | 07/03/17 | 06/30/17
92990 | Metalcast Products (State/One-Stop) | Salina, KS | 07/03/17 | 06/30/17
92991 | Moventas Gears Inc. (State/One-Stop) | Portland, OR | 07/03/17 | 06/30/17
92992 | Hewlett Packard Enterprise (State/One-Stop) | Chicago, IL | 07/05/17 | 07/03/17
92993 | Zodiac Aerospace (Health Tecna) (State/One-Stop) | Bellingham, WA | 07/05/17 | 07/03/17
92994 | Buckeye Hone Company, Inc. (State/One-Stop) | Bucyrus, OH | 07/06/17 | 07/05/17
92995 | Dell (Workers) | Round Rock, TX | 07/06/17 | 07/05/17
92996 | GVL Poly (State/One-Stop) | Hesston, KS | 07/06/17 | 07/05/17
92997 | HSBC Technology and Services, USA (HTSU) (State/One-Stop) | Jersey City, NJ | 07/06/17 | 07/05/17
92998 | Nebraska Land Title and Abstract Company (NLTA) (State/One-Stop) | Omaha, NE | 07/07/17 | 07/06/17
92999 | Atlas Copco Secoroc LLC (Company) | Grand Prairie, TX | 07/10/17 | 07/07/17
93000 | CA, Inc. (State/One-Stop) | Ewing, NJ | 07/10/17 | 07/07/17
93001 | CSC—Computer Sciences Corporation (State/One-Stop) | Blythewood, SC | 07/10/17 | 07/07/17
93002 | Motor Appliance Corporation (State/One-Stop) | Blytheville, AR | 07/10/17 | 07/07/17
93003 | DXC Technology (State/One-Stop) | Omaha, NE | 07/11/17 | 07/10/17
93004 | IEEE (State/One-Stop) | Piscataway, NJ | 07/11/17 | 05/30/17
93005 | Infotree Services (State/One-Stop) | Grove City, PA | 07/11/17 | 07/10/17
93006 | Swagelok Technology Services Company (State/One-Stop) | Erie, PA | 07/11/17 | 07/10/17
93007 | Commemorative Brands, Inc. (Company) | Austin, TX | 07/12/17 | 07/11/17
93008 | Conduent Business Services, LLC (State/One-Stop) | Rochester, NY | 07/12/17 | 07/11/17
93008A | Conduent Business Services, LLC (State/One-Stop) | Webster, NY | 07/12/17 | 07/11/17
93009 | Graco Baby Division (Workers) | Exton, PA | 07/12/17 | 07/11/17
93010 | Trico Converting, Inc. (State/One-Stop) | Fullerton, CA | 07/12/17 | 07/11/17
93011 | GEICO (State/One-Stop) | Chevy Chase, MD | 07/13/17 | 07/13/17
93012 | Tata Consultancy Services (State/One-Stop) | Redmond, WA | 07/13/17 | 07/11/17
93013 | Contemporary Staffing Solutions (State/One-Stop) | Jacksonville, FL | 07/14/17 | 07/13/17
93014 | Pacific Coast Feather Company (State/One-Stop) | Des Plaines, IL | 07/14/17 | 07/13/17
93015 | Vertiv Co. (State/One-Stop) | Columbus, OH | 07/14/17 | 07/13/17
93016 | Flint Group Printing Systems US LLC (Union) | Huntington, WV | 07/17/17 | 07/12/17
93017 | Hearthmark, Inc. (State/One-Stop) | Cloquet, MN | 07/17/17 | 07/14/17
93018 | Associated Fuel Pump Systems Corporation (Company) | Anderson, SC | 07/17/17 | 07/14/17
93018A | Human Technologies, Incorporated (Company) | Williamston, SC | 07/17/17 | 07/14/17
93019 | Diamond Foods (State/One-Stop) | Stockton, CA | 07/18/17 | 07/17/17
93020 | Meadowbrook Meat Company—Tracy (State/One-Stop) | Tracy, CA | 07/18/17 | 07/17/17
93021 | Durafiber Technologies (Company) | Grover, NC | 07/19/17 | 07/18/17
93022 | Durafiber Technologies (Company) | Salisbury, NC | 07/19/17 | 07/18/17
93023 | IBM Global Administration (State/One-Stop) | Littleton, MA | 07/19/17 | 07/17/17
93024 | International Business Machines (IBM) (State/One-Stop) | Research Triangle Park, NC | 07/19/17 | 07/18/17
93025 | SPIROL Ascutney (State/One-Stop) | Windsor, VT | 07/19/17 | 07/18/17
93026 | St. Vincent Health (Workers) | Indianapolis, IN | 07/19/17 | 07/18/17
93027 | ODU-USA, Inc. (State/One-Stop) | Camarillo, CA | 07/20/17 | 07/19/17
93028 | TATA Consultancy Services (State/One-Stop) | Midland, MI | 07/20/17 | 07/19/17
93029 | Experis-NA, Inc. (Workers) | Boise, ID | 07/21/17 | 06/30/17
93030 | Tronc, Inc. (State/One-Stop) | Lewisville, TX | 07/21/17 | 07/20/17
93031 | Continental Traffic Service Inc. (CTSI-Global) (State/One-Stop) | Memphis, TN | 07/24/17 | 07/21/17
93032 | Ditech Financial LLC (State/One-Stop) | St. Paul, MN | 07/24/17 | 07/21/17
93033 | Kmart Stores of Texas, LLC (State/One-Stop) | El Paso, TX | 07/24/17 | 07/21/17
93034 | Macy's Sunland Park Store (State/One-Stop) | El Paso, TX | 07/24/17 | 07/21/17
93035 | General Motors (GM) (Union) | Warren, MI | 07/25/17 | 07/25/17
93036 | Health Care Service Corporation (State/One-Stop) | Naperville, IL | 07/25/17 | 07/24/17
93036A | Health Care Service Corporation (State/One-Stop) | Waukegan, IL | 07/25/17 | 07/24/17
93037 | TCF National Bank (Workers) | Sioux Falls, SD | 07/25/17 | 06/28/17
93038 | Pearson, Inc. (State/One-Stop) | San Antonio, TX | 07/26/17 | 07/25/17
93039 | Unum Group (State/One-Stop) | Chattanooga, TN | 07/26/17 | 07/25/17
93040 | Radio Frequency Systems (State/One-Stop) | Meriden, CT | 07/27/17 | 07/26/17
93041 | Teleflex/Wolf Tory, Inc. (Company) | Salt Lake City, UT | 07/27/17 | 07/26/17
93042 | Custom Control Sensors (State/One-Stop) | Chatsworth, CA | 07/28/17 | 07/27/17
93043 | Delft Blue LLC (Company) | New York Mills, NY | 07/28/17 | 07/27/17
93044 | Hartford Fire Insurance Company (State/One-Stop) | Hartford, CT | 07/28/17 | 07/27/17
93045 | TMCI Holdings Inc. (State/One-Stop) | Newark, NJ | 07/28/17 | 07/27/17
93046 | Optimas OE Solutions (State/One-Stop) | Erie, PA | 07/31/17 | 07/28/17
93047 | Trine Aspects LTD, (contracted by CitiBank) (State/One-Stop) | New York, FL | 07/31/17 | 07/28/17
93048 | Startek (Workers) | Tell City, IN | 07/31/17 | 07/28/17
93049 | Ecoshel (Company) | Ashland, ME | 08/01/17 | 07/31/17
93050 | Ormco d/b/a Allesee Orthodontic Appliances (AOA) (State/One-Stop) | Sturtevant, WI | 08/01/17 | 07/31/17
93051 | Pearson Education (Company) | Boston, MA | 08/01/17 | 07/28/17
93052 | Harman International (Company) | Richardson, TX | 08/02/17 | 08/01/17
93053 | JLM Couture, Inc. (State/One-Stop) | New York, NY | 08/02/17 | 08/01/17
93054 | Ulbrich Solar Technologies (State/One-Stop) | Hillsboro, OR | 08/03/17 | 08/02/17
93055 | Best Buy/Geeksquad (State/One-Stop) | Richfield, MN | 08/03/17 | 08/02/17
93056 | Microsoft (State/One-Stop) | Wilsonville, OR | 08/03/17 | 08/02/17
93057 | Diodes Fab Tech (State/One-Stop) | Lee's Summit, MO | 08/04/17 | 08/03/17
93058 | Hermiston Foods/NORPAC (State/One-Stop) | Hermiston, OR | 08/04/17 | 08/03/17
93059 | IBM (Workers) | Littleton, MA | 08/04/17 | 08/03/17
93060 | Commemorative Brands Inc. (State/One-Stop) | Austin, TX | 08/07/17 | 08/04/17
93061 | CPS Products (Star Enviro Tech Inc.) (State/One-Stop) | Huntington Beach, CA | 08/07/17 | 08/04/17
93062 | Delta Apparel, Inc. (Company) | Concord, NC | 08/07/17 | 08/04/17
93063 | JAE Oregon (State/One-Stop) | Tualatin, OR | 08/07/17 | 08/04/17
93064 | NGK-Locke Insulators, Inc. (State/One-Stop) | Baltimore, MD | 08/07/17 | 08/04/17
93065 | Oracle (State/One-Stop) | Hillsboro, OR | 08/07/17 | 08/04/17
93066 | Kalmar RT Center LLC (State/One-Stop) | Cibolo, TX | 08/08/17 | 08/07/17
93067 | Metalor Technologies (Company) | Export, PA | 08/09/17 | 08/08/17
93068 | Noble Energy (Workers) | Houston, TX | 08/10/17 | 07/14/17
93069 | Callidus/Honeywell (State/One-Stop) | Beggs, OK | 08/11/17 | 08/10/17
93070 | Symmetry Medical Inc. (State/One-Stop) | New Bedford, MA | 08/11/17 | 08/10/17
93071 | National Instruments (Company) | Austin, TX | 08/14/17 | 08/11/17
93072 | National Oilwell Varco (Workers) | Claremore, OK | 08/14/17 | 08/09/17
93073 | Norpac Foods Inc. (State/One-Stop) | Salem, OR | 08/14/17 | 08/11/17
93074 | Philips Medical Systems (Cleveland) Inc. (Company) | Aurora, IL | 08/14/17 | 08/11/17
93075 | Yanfeng US Automotive II LLC (Union) | Lansing, MI | 08/14/17 | 08/11/17
93076 | API Heat Transfer (Union) | Cheektowaga, NY | 08/16/17 | 08/07/17
93077 | Fargo Assembly of Mississippi, LLC (Workers) | Kosciusko, MS | 08/17/17 | 08/16/17
93078 | Health Care Service Corporation (State/One-Stop) | Downers Grove, IL | 08/17/17 | 08/16/17
93079 | Travelport (State/One-Stop) | Kansas City, MO | 08/17/17 | 08/16/17
93080 | Affinity Apparel (Workers) | Moultrie, GA | 08/18/17 | 08/17/17
93081 | Casamba (an affiliate of Source Medical) (Workers) | Rome, GA | 08/18/17 | 08/17/17
93082 | DART Aerospace (State/One-Stop) | Eugene, OR | 08/18/17 | 08/17/17
93083 | Hitachi Metals Automotive Components, LLC (State/One-Stop) | Wellsboro, PA | 08/18/17 | 08/17/17

[FR Doc. 2017-20940 Filed 9-28-17; 8:45 am]

BILLING CODE 4510-FN-P